COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities, and deletes product(s) and service(s) from the Procurement List previously furnished by such agencies.

DATES: Date added to and deleted from the Procurement List: June 8, 2025.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Additions

On July 26, 2024, the Committee for Purchase From People Who Are Blind or Severely Disabled (operating as the U.S. AbilityOne Commission) published an initial notice of proposed additions to the Procurement List. (89 FR 60605). This final notice is published pursuant to 41 U.S.C. 8503(a)(2) and 41 CFR 51-2.3. The Committee has determined that the product(s) listed below are suitable for procurement by the Federal Government and has added these product(s) to the Procurement List as a mandatory purchase for Federal entities. In accordance with 41 CFR 51-5.2, the Committee has authorized the qualified nonprofit agencies described with the products as the mandatory source(s) of supply.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

650023201N—Face Shield, .01″ Polycarbonate, Elastic Headband, IIJA Compliant

650023202N—Face Shield, .008″ PET, Elastic Headband, IIJA Compliant

650017601N—Face Shield, with Glasses Frame, PET, One Size, IIJA Compliant

650017701N—Face Shield, with Glasses Frame, PET, One Size

Authorized Source of Supply: Association for Vision Rehabilitation and Employment, Inc., Binghamton, NY

Contracting Activity: DEFENSE LOGISTICS AGENCY, DLA TROOP SUPPORT

Mandatory for: Broad Government Requirement

Distribution: B-List

Deletions

On April 4, 2025 (90 FR 14813), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 7510-01-579-9326—Binder, Removable Slant-D Rings, 100% Recyclable, Turned Edge, Dark Green, 1″ Capacity, Letter

Authorized Source of Supply: South Texas Lighthouse for the Blind, Corpus Christi, TX

Contracting Activity: STRATEGIC ACQUISITION CENTER, FREDERICKSBURG, VA

Contracting Activity: GSA/FAS ADMIN SVCS ACQUISITION BR(2, NEW YORK, NY

NSN(s)—Product Name(s):

MR 813—Thermometer, Analog Probe

MR 815—Thermometer, Digital

Authorized Source of Supply: Chicago Lighthouse Industries, Chicago, IL

Contracting Activity: Military Resale-Defense Commissary Agency

NSN(s)—Product Name(s):

MR 11305—Water Bottle, Travel, Cortland, 24 oz.

MR 11308—Tumbler, Travel, Shake and Go, 20 oz.

MR 11334—Bottle, Eddy, 0.75L, Assorted

MR 13083—Mug, Snap Seal, Contigo, 16 oz

MR 13084—Bottle, Bubba, 32 oz

MR 13086—Bottle, Kids, Bubba, 16 oz

MR 13088—Mug, Travel, Plastic, West Loop 2.0, 20 oz

MR 3201—Stay Put Elastics Black

Authorized Source of Supply: Association for Vision Rehabilitation and Employment, Inc., Binghamton, NY

Contracting Activity: Military Resale-Defense Commissary Agency

NSN(s)—Product Name(s): MR 549—Sponge, Pop-Up, Small

Authorized Source of Supply: MISSISSIPPI INDUSTRIES FOR THE BLIND (INC), Jackson, MS

Contracting Activity: Military Resale-Defense Commissary Agency

NSN(s)—Product Name(s):

MR 13041—Box, Insulated, Assorted Colors, Lunch

MR 13042—Bag, Triangular, Assorted Colors, Lunch

MR 13044—Bag, Round Handle, Assorted Colors, Lunch

Authorized Source of Supply: West Texas Lighthouse for the Blind, San Angelo, TX

Contracting Activity: Military Resale-Defense Commissary Agency

NSN(s)—Product Name(s):

MR 13060—Flavor Injector, Meat and Poltry

MR 13062—Rack, Pressure Cooker, Silicone

MR 13063—Rack, Roasting, Silicone

MR 13079—Set, Glass Containers, Smart Seal, 12 Piece

MR 13152—POP 4 Pc Baking Accessories Set

MR 13022—Corer, Cupcake

MR 13024—Cookie Press, Disc Storage, 12 Discs

MR 13056—Kit, Bottle, Bakers, 8pc

MR 13058—cups, Baking, Silicone

MR 13059—Spatula, Baking, cookie, Silicone

MR 855—Ergo Nylon Spoon

MR 856—Ergo Nylon Slotted Spoon

MR 857—Ergo Nylon Spaghetti Server

MR 861—Ergo Nylon Ladle

MR 869—Oxo Good Grip Silicone Spatula

MR 891—Handheld Grater

MR 892—Ergo Apple Divider

MR 1123—Mat Drying, Silicone, Large

MR 13128—Set, Bowl, Mixing, 3 pc

MR 13129—Set, Container, Plastic, 16 pc

MR 13001—Greensaver Produce Keeper, 1.6 Qt.

MR 13037—Microwave Bacon Crisper

MR 13002—Greensaver Produce Keeper, 4.3 Qt

MR 820—Opener, Can and Bottle

MR 826—Peeler, Vegetable

MR 829—Meat Hammer, Tenderizing

MR 842—Tong, Scissor

MR 849—Whisk, Wire Looped

MR 862—Whisk, Silicone, Balloon, Red

MR 853—Ergo Nylon Square Turner

MR 854—Ergo Nylon Round Turner

MR 335—Squeezer, Citrus, Aluminum

MR 338—Mandolin Slicer, Handheld

MR 342—Shaker, Salad Dressing

MR 800—BBQ 4 Piece Tool Set

MR 803—BBQ Fork

MR 819—Can Opener, Gear Type

MR 888—Ergo Pizza Wheel

Authorized Source of Supply: CINCINNATI ASSOCIATION FOR THE BLIND AND VISUALLY IMPAIRED, Cincinnati, OH

Contracting Activity: Military Resale-Defense Commissary Agency

NSN(s)—Product Name(s): MR 949—Mitt, Oven, Quilted, Cotton

Authorized Source of Supply: CHESTER COUNTY BRANCH, PA ASSOCIATION FOR THE BLIND AND VISUALLY IMPAIRED, Coatesville, PA

Contracting Activity: Military Resale-Defense Commissary Agency

Service(s)

Service Type: Mailroom Operation & Administrative Supp

Mandatory for: US Army, Logistics Data Analysis Center, Huntsville, AL

Authorized Source of Supply: Huntsville Rehabilitation Foundation, Inc., Huntsville, AL

Contracting Activity: DEPT OF THE ARMY, W6QK ACC-RSA

Michael R. Jurkowski,
Director, Business Operations.

[FR Doc. 2025-08177 Filed 5-8-25; 8:45 am]

BILLING CODE 6353-01-P